DEPARTMENT OF HEALTH AND HUMAN SERVICES

Centers for Disease Control and Prevention

[30Day-23-1283]

Agency Forms Undergoing Paperwork Reduction Act Review

In accordance with the Paperwork Reduction Act of 1995, the Centers for Disease Control and Prevention (CDC) has submitted the information collection request titled “Monitoring and Reporting for the Overdose Data to Action Cooperative Agreement” to the Office of Management and Budget (OMB) for review and approval. CDC previously published a “Proposed Data Collection Submitted for Public Comment and Recommendations” notice on September 7, 2022, to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Monitoring and Reporting for the Overdose Data to Action Cooperative Agreement (OMB Control No. 0920-1283, Exp. 01/31/2023)—Revision—National Center for Injury Prevention and Control (NCIPC), Centers for Disease Control and Prevention (CDC).

Background and Brief Description

This is a Revision request for the currently approved Monitoring and reporting for the Overdose Data to Action Cooperative Agreement (OMB Control No. 0920-1283). In 2020, a total of 91,799 drug overdose deaths occurred in the United States; the age-adjusted rate in 2020 was 31% higher than the rate in 2019. Approximately 75% of drug overdose deaths in 2020 involved an opioid, and opioid overdose deaths in 2020 were 8.5 times the number they were in 1999. In addition, opioids are nested in a broadening polysubstance crisis, largely driven by deaths co-involving opioids and stimulants, such as cocaine and methamphetamine. While the overdose epidemic worsens in scope and magnitude, it is also becoming more complex.

In response to the growing severity of the opioid overdose epidemic, the U.S. government declared the opioid overdose epidemic a Public Health Emergency (PHE) on October 26, 2017, joining at least eight states that have declared the opioid overdose epidemic a statewide emergency. The opioid overdose epidemic is one of the U.S. Department of Health and Human Services (HHS) top priorities. In 2017, HHS launched a five-point Opioid Strategy: (1) Access: Better Prevention, Treatment, and Recovery Services; (2) Data: Better Data on the Epidemic; (3) Pain: Better Pain Management; (4) Overdoses: Better Targeting of Overdose-Reversing Drugs; and (5) Research: Better Research on Pain and Addiction.

CDC's overdose surveillance and prevention efforts include the Overdose Data to Action (OD2A) cooperative agreement. The purpose of OD2A is to support funded jurisdictions in obtaining high quality, complete, and timelier data on opioid prescribing and overdoses involving opioids, stimulants, and polysubstance use, and to use those data to inform prevention and response efforts. The OD2A cooperative agreement, ending in August 2023, will be followed by two fundings aimed at reducing non-fatal and fatal overdoses; one will be focused on states and the other on localities. OD2A in States (OD2A-S) will focus on overdose surveillance and prevention efforts by state health departments and Washington, DC, while OD2A Limiting Overdose through Collaborative Actions in Localities (OD2A-LOCAL), will focus on overdose surveillance and prevention efforts by city and county health departments, and territories. These two cooperative agreements will allow funded jurisdictions to continue the work started in OD2A and adapt their overdose surveillance and prevention efforts to the rapidly changing drug epidemic.

This is a Revision request for the currently approved Information Collection Request (ICR) to continue the collection of information from jurisdictions (which include states, Washington, DC, U.S. Territories, cities, and counties), collect new information from jurisdictions (which include states and Washington, DC), and collect new information from jurisdictions (which include U.S. Territories, cities, and counties) funded under the OD2A-LOCAL. All jurisdictions funded by the OD2A NOFOs will report activity progress and capacity and workplan updates using web-based tools.

Information collected will provide crucial data for program performance monitoring, budget tracking, and where applicable, program success. The information will also improve communication between CDC and funding recipients as well as inform technical assistance and guidance documents.

CDC requests OMB approval for an estimated 1,343 annualized burden hours. There are no costs to respondents other than their time to participate.

Estimated Annualized Burden Hours
Type of respondents | Form name | Number of respondents | Number of responses per respondent | Average burden per response (in hours)
OD2A-funded state, territory, county, and city health departments | Evaluation and Performance Measuring Plan Template | 66 | 1 | 4
| Overdose Prevention Capacity Assessment Tool | 66 | 1 | 20/60
| Annual Performance Report | 66 | 1 | 40/60
OD2A-S-funded state and District of Columbia health departments | OD2A-S Annual Performance Report and Work Plan | 51 | 1 | 11
| OD2A-S Evaluation & Performance Measurement Plan Template | 51 | 1 | 20/60
| OD2A-S Data Management Plan | 51 | 1 | 40/60
OD2A-LOCAL-funded territory, county, and city health departments | OD2A-LOCAL Annual Performance Report and Work Plan | 40 | 1 | 9
| OD2A-LOCAL Evaluation & Performance Measurement Plan Template | 40 | 1 | 20/60
| OD2A-LOCAL Data Management Plan | 40 | 1 | 40/60

Jeffrey M. Zirger,
Lead, Information Collection Review Office, Office of Scientific Integrity, Office of Science, Centers for Disease Control and Prevention.

[FR Doc. 2023-01160 Filed 1-20-23; 8:45 am]

BILLING CODE 4163-18-P